DEPARTMENT OF STATE

[Public Notice 4837]

Redesignation of The Islamic Movement of Uzbekistan (IMU), as a Foreign Terrorist Organization Pursuant to Section 219 of the Immigration and Nationality Act

Based upon a review of the Administrative Record assembled in this matter, and in consultation with the Attorney General and the Secretary of the Treasury, the Secretary of State has concluded that there is a sufficient factual basis to find that the relevant circumstances described in Section 219 of the Immigration and Nationality Act, as amended (8 U.S.C. 1189, hereinafter “INA”), exist with respect to the Islamic Movement of Uzbekistan.

Therefore, effective September 24, 2004, the Secretary of State hereby redesignates that organization as a Foreign Terrorist Organization pursuant to Section 219(a) of the INA.

Dated: September 20, 2004.
William P. Pope,
Deputy Coordinator for Counterterrorism, Department of State.

[FR Doc. 04-21503 Filed 9-23-04; 8:45 am]

BILLING CODE 4710-10-P